DEPARTMENT OF HEALTH AND HUMAN SERVICES

Office of the Secretary

Funding Opportunity: Request for Applications for Cooperative Agreement To Provide Training Program to Physicians and Other Staff at Rabia Balkhi Women's Hospital in Kabul, Afghanistan

Announcement Type: Initial.

Action: Notice.

Authority: Section 103(a)(1); Section 103(a)(7) of public law 107-327; Public Health Service Act, Section 307.

SUMMARY: The Office of Global Health Affairs (OGHA) announces that an estimated $2.2 million in fiscal year (FY) 2004 funds are available for one (1) cooperative agreement to provide continuing education and refresher training to physicians and other staff at Rabia Balkhi Women's Hospital (RBH) in Kabul, Afghanistan. This effort is a joint undertaking by the U.S. Department of Health and Human Services (HHS) and the Afghanistan Ministry of Health (MOH). The objective of this project is to improve the quality of care at RBH through the provision of continuing education and refresher training and related services to improve the knowledge base and skills of the physicians, nurses, midwives, other health care workers, and support staff at the facility. Award recipient will also conduct a comprehensive evaluation of conditions and elements necessary for the eventual implementation of an OB/GYN residency training program in Afghanistan. OGHA anticipates HHS scientific and programmatic involvement in the development and administration of the training program. The project will be approved initially for a three-year period. It is estimated that approximately $2.2 million (including indirect costs) will be available in the first year. Funding for the cooperative agreement in subsequent years is contingent upon the availability of funds.

DATES: To receive consideration, the Grants Management Office (GMO) of the Office of Public Health and Science (OPHS) within HHS must receive applications by no later than September 15, 2004. Additionally, a letter of intent to apply is required (See Section IV) no later than September 1, 2004.

ADDRESSES: Application kits may be requested from, and applications submitted to: OPHS Grants Management Office, 1101 Wootton Parkway, 5th Floor, Rockville, MD 20852.

SUPPLEMENTARY INFORMATION: This Cooperative Agreement is governed by the Afghanistan Freedom Support Act (Pub. L. 107-327, Section 103(a)(1) and Section 103(a)(7)), and the Public Health Service Act (Section 307) and will be administered by the OGHA, HHS.

OGHA provides policy and staffing support to the Secretary and other HHS leaders in the area of global health, and provides policy advice, leadership and coordination of international health matters across HHS, including leadership on major crosscutting global health initiatives and the Department's relationships with multilateral organizations.

Under this continuing education and logistical support cooperative agreement, HHS, in coordination with the Afghanistan MOH, will support and guide award recipient's activities by working with the award recipient in an advisory role throughout the development and implementation of activities. In addition, HHS will participate actively in the evaluation of the program.

Obligations of HHS

1. Assurance of the services of appropriately experienced OGHA and other HHS personnel to participate in the planning, development, implementation, and evaluation of all phases of this activity;

2. Participation in periodic meetings and/or communications with the award recipient to review mutually agreed-upon goals and objectives and to assess program development and implementation progress and, when indicated, interval evaluation;

3. Assistance in establishing and maintaining U.S. Government, Afghanistan MOH, and non-governmental organizations (NGOs) contacts and agreements necessary to carry out the project.

I. Funding Opportunity Description

This announcement seeks proposals from appropriately qualified public and private not for profit entities to provide clinical, administrative, and ancillary staff continuing education and refresher training to Afghan healthcare professionals and support staff at RBH. For the purposes of this cooperative agreement, continuing education and refresher training refer to specific training in appropriate Western clinical methodologies and techniques that are identified as critical to the knowledge and skills of attending physicians, residents, midwives, and nurses. “Residency training” refers to a sustainable training of physician specialists in obstetrics and gynecology based on accredited Western standards and modified for the Afghan situation. Funds available under this cooperative agreement will improve the quality of care at RBH by providing direct training, clinical as well as didactic, for physicians, current residents, midwives, and nurses. Clinical training will include the demonstration of direct patient care alongside Afghan healthcare providers. As a second priority, other allied health care workers such as laboratorians and pharmacy technicians, hospital administrators including facility and personnel managers, should also benefit from training. Finally, award recipient will conduct a comprehensive evaluation of all necessary conditions and elements related to the implementation of a residency training program in Obstetrics and Gynecology (OB/GYN) in Afghanistan, most likely based in Kabul and possibly involving one or more hospitals, including Rabia Balkhi Hospital. While not included as part of this proposed cooperative agreement, the ultimate goal of HHS is to support the establishment of a sustainable OB/GYN residency training program in Kabul, once conditions are appropriate for doing so. Information and insights gained through this cooperative agreement will inform subsequent programming to develop the residency program.

Background

Afghanistan has one of the highest maternal mortality rates (MMR) in the world with a rate of 1,600 maternal deaths per 100,000 live births. In Badakshan Province, the MMR is 6,500, the highest maternal mortality rate ever reported globally. Preventable complications related to childbirth cause more than 85 percent of deaths among women of childbearing age in Afghanistan. An estimated one in four children dies before reaching their fifth birthday.

The Rabia Balkhi Women's Hospital (RBH) in Kabul, Afghanistan, is the largest full-service women's hospital in the country. The hospital treats more than 36,000 patients each year and delivers 14,600 babies per year, on an average, 40 babies a day. Other care services provided at RBH include gynecology, surgery, dermatology, and internal medicine.

RBH, as well as most of health care clinics and hospitals in Afghanistan, is struggling with basic facility and human resource challenges that exceed those experienced in most other developing countries. Healthcare professionals and support staff at RBH are working to provide quality services in an environment left neglected during years of political upheaval and oppression. As a result, fundamental outpatient and in-patient services needed to provide timely and accurate assessment and treatment of patients are frequently absent or in need of major improvement.

The United States, other countries, and NGOs have begun cooperative efforts toward direct assistance and provision of essential health services in Afghanistan. HHS Secretary Tommy G. Thompson signed a Memorandum of Understanding (MOU) with the Afghanistan Minister of Health on October 9, 2002, pledging the support of American citizens to help in these efforts. In early 2003, HHS entered into collaboration with the Afghanistan Ministry of Health to improve the maternal and child health services available within Afghanistan. One of the long-term goals of this HHS-MOH collaboration is to develop an OB/GYN residency training program that is an adaptation of the American OB/GYN residency model.

As a first step, in April 2003, HHS established a clinical knowledge and skills refresher-training program at RBH. The intent of this refresher training has been to update the knowledge and skills of the attending physicians. Currently, HHS and a partner NGO are providing focused, short-term training to the obstetrician-gynecologist attending staff at RBH, to update clinical skills and basic knowledge which are needed to respond to the critical needs of the high-risk patient community accessing care at this facility.

In addition, training has been extended to other critical members of the hospital staff such as residents, nurses, midwives, anesthetists, and pediatricians. The numbers of Afghan healthcare professionals at RBH and thus exposed to training under this award is approximately 148 in the following categories:

• OB/GYN attending physicians—13.

• OB/GYN resident physicians—40.

• Pediatric staff—10.

• Midwife/Nurse staff—60.

• Hospital Administrators—5.

• Pharmacy staff—5.

• Laboratory staff—5.

• Maintenance and housekeeping staff—10.

The trainers have sought to update the knowledge and clinical skills of the existing attending physicians and other healthcare professionals at RBH in the fundamentals of clinical medicine so as to assure that the attending physicians, residents, and staff at RBH possess the core knowledge and skills required to provide the best possible care for mothers and their babies. Since 2003, a rotating faculty consisting of volunteer Western-trained Obstetrician-Gynecologists, Pediatricians, Anesthesiologist/Nurse Anesthetists, Family Practitioners, Certified Nurse-Midwives and Nurse Practitioners, and Hospital Administrators have been teaching the refresher training program. Additionally, HHS consultants and NGO staff have provided specific training related to administration and upkeep of the physical environment of RBH. HHS has determined that these continuing education efforts need to be continued for at least three years.

Purposes of the Cooperative Agreement

The United States Government remains committed to supporting the further development of Afghanistan's health infrastructure. The purpose of the activities supported by this funding is to provide and support formal training for physicians, other healthcare professionals, and ancillary hospital staff at RBH that will improve the quality of care offered at the hospital so that an OB/GYN residency training program modeled after American OB/GYN residency programs can exist in the future. This RFA invites cooperative agreement applications from qualified applicants, or a consortium of applicants, to participate in this endeavor as a critical partner with HHS and Afghanistan MOH in their efforts to improve the quality of care at RBH.

The role of the award recipient of this cooperative agreement will be to provide and support training of the physicians, nurses, midwives and other staff at RBH. The award recipient will design and implement a formal clinical and didactic curriculum that includes modeling of direct patient care for professional staff at RBH. Additionally, the award recipient will provide critical logistical support to project staff and consultants working at RBH on various aspects of the program. Finally, the award recipient will conduct a comprehensive evaluation of all the necessary elements and conditions required for the eventual implementation of an OB/GYN residency training program in Afghanistan.

II. Award Information

The administrative and funding instrument to be used for this program will be the cooperative agreement in which HHS scientific and programmatic involvement with the awardee is anticipated during the performance of the project. Under the cooperative agreement, HHS will support and/or stimulate award recipient activities by working with the award recipients in a partnership role. The award recipient will also be expected to work directly with and in support of HHS' Centers for Disease Control and Prevention (CDC), Health Resources Services Administration (HRSA), the Indian Health Service (IHS); Veterans Administration (VA); the Afghanistan MOH; and other partners.

The project period is up to three years with an initial award of $2.2 million in total costs (including indirect costs). The initial budget period is expected to be 12 months, with subsequent budget periods being 12 months. Continuation of any project from one budget period to the next, and level of funding, is subject to satisfactory performance, availability of funds, and program priorities.

Although this program is provided for in the financial plans of the OGHA, awards pursuant to this RFA are contingent upon the availability of funds for this purpose.

III. Eligibility Information

Applications may be submitted by appropriately qualified not for profit entities or consortia of such entities, including U.S. universities and medical schools, humanitarian and relief organizations, and other NGOs, with offices in the United States and Afghanistan or incorporated and headquartered in the United States with offices in the United States and Afghanistan. For-profit entities may participate but only as a partner organization in a consortium. Minimally, applicants must meet Afghanistan MOH requirements for registration and participation in healthcare activities in the country. Since it is unlikely that all of the required capabilities will be located within one institution, the successful applicant will likely be multi-institutional, or a consortium that draws from multiple groups in the United States and Afghanistan. OGHA can provide information about possible partners. Cost sharing or matching is not required.

Organizations or consortia of organizations that have collective experience in the following areas are encouraged to apply:

• Training of physicians and other health care workers in resource-poor settings.

• Training of ancillary hospital staff in resource-poor settings.

• Management of an accredited OB/GYN residency training program.

• Hospital accreditation.

• Assessment and evaluation of hospitals and critical public health infrastructure.

• Supporting the development of quality-assurance programs for acute care sites in resource-poor settings.

• Provision of logistical support for project staff including travel, on ground transportation and communication systems including translation, security, and room and board.

IV. Application and Submission Information

1. Applications may be requested in one of three ways: (1) Telephone: (301)-443-1410; (2) e-mail: abhat@osophs.dhhs.gov; and (3) Mail: Project Officer Dr. Amar Bhat; Parklawn Building, Room 18C-17; Rockville, MD 20857.

2. Applicants are requested to use Application Form PHS-5161-1 (revised July 2000), enclosed in your application packet. Instructions for filling out PHS-5161-1 are included in the application packet. This form is also available in Adobe Acrobat format at the following website http://www.cdc.gov/od/pgo/forminfo.htm. Many different programs funded through the Public Health Service (PHS) use this generic form. Some parts of it are not required; other sections need to be filled out in a fashion specific to the program. Applications should be submitted to Ms. Karen Campbell, Director, Office of Public Health and Science (OPHS) Office of Grants Management, 1101 Wootton Parkway, Suite 550, Rockville, MD 20852.

Notification of intent to apply is required and can be made in one of three ways: (1) Telephone: (301)-443-1410; (2) e-mail: abhat@osophs.dhhs.gov; and (3) Mail: Project Officer Dr. Amar Bhat; Parklawn Building, Room 18C-17; Rockville, MD 20857. The letter of intent must be received by 4:30 PM on the date specified in the date section. For questions specific to project objectives, the nature of the training program, or the required letter of intent contact Dr. Amar Bhat at abhat@osophs.dhhs.gov or by phone at 301-443-1410.

For cooperative agreements policy, budgetary, and business questions contact Grants Management Specialist Mr. Eric West at ewest@osophs.dhhs.gov or by phone at 301-594-0758.

A separate budget page is required for each budget year requested. For example, if the applicant organization requests three years of cooperative agreement support, a line item budget (SF 424A) with coinciding justification to support each of the budget years must be submitted with the proposal. These forms will represent the full project period of Federal assistance requested. This will also provide budget information needed for the subsequent year's Summary Progress Report. Proposals submitted without a budget and justification for each budget year requested in the application may not be favorably considered for funding. Specific instructions for submitting a detailed budget for this application will be included in the application packet. If additional information and/or clarification are required, please contact the Grants Management Specialist identified in Section VII of this announcement.

3. Applicants are required to submit an original ink-signed and dated application and 2 photocopies. All pages must be numbered clearly and sequentially beginning with the Project Profile. The application must be typed double-spaced on one side of plain 8½″ x 11″ white paper, using at least a 12 point font and contain 1″ margins all around. The Project Summary and Project Narrative must not exceed a total of 25 double-spaced pages, excluding the appendices. The original and each copy must be stapled and/or otherwise securely bound.

4. A project abstract submitted on 3.5 inch floppy disk and/or CD-ROM must accompany all cooperative agreement applications. The abstract must be single-spaced, typed, and must not exceed two pages. Margins should be 12 inches at the top and 1 inch at the bottom and both sides; and typeset must be no smaller than 12 point font and not reduced. Reviewers and staff will refer frequently to the information contained in the abstract, and therefore it should contain substantive information about the proposed projects in summary form. A list of suggested keywords and a format sheet for your use in preparing the abstract will be included in the application packet.

A project narrative must accompany all cooperative agreement applications. In addition to the instructions provided in PHS 5161-1 for project narrative, the specific guidelines for the project narrative are provided in the program guidelines. Format requirements are the same as for the project abstract section; margins should be 12 inch at the top and 1 inch at the bottom and both sides; and typeset must be no smaller than 12 point font and not reduced. Biographical sketches should be either typed on the appropriate form or plain paper and should not exceed two pages, with publications listed being limited only to those that are directly relevant to this project.

5. E.O. 12372 does not apply to this application.

6. Funding restrictions do not apply to this application beyond the limitations described below.

The amount of financial support (direct and indirect costs) that an applicant is requesting from the Federal granting agency for the first year is to be entered on the Face Sheet of Application Form PHS 5161-1, Line 15a. Each application should include a request for funds for electronic mail capability unless access by Internet is already available. The amount of financial support (direct and indirect costs) entered on the SF 424 is the amount an applicant is requesting from the federal granting agency for the first project year. Projected amounts for future budget periods should be entered on SF 424A, Section E. Please note that if indirect costs are requested, the applicant must submit a copy of the latest negotiated rate agreement. The indirect costs rate refers to the Other Sponsored Program/Activities rate and to neither the research rate, nor the education/training program rate. Those applicants without an established indirect cost rate for other sponsored programs will be held at 15 percent of total direct costs, except, in cases where there is no established rate, applicants may only request 10 percent of salaries and wages. However, if an applicant's established rate for other sponsored programs exceeds 15 percent, but would be advantageous to the U.S. Government, the OGHA/HHS may honor that indirect rate cost.

To receive consideration, the OPHS Grants Management Office must receive applications by the deadline listed in the DATES section of this announcement. Applications will be considered as meeting the deadline if they are actually received by the Grants Management Office by 4:30 p.m. on the application due date; for this project, postmark by the deadline date will not suffice. Hand-delivered applications must be received in the OPHS Grants Management Office no later than 4:30 p.m. on the application due date. Applications that do not meet the deadline will not be accepted for review. Applications sent via facsimile or by electronic mail will not be accepted for review. All applications must be submitted to OPHS at the following address: Office of Grants Management, 1101 Wootton Parkway, Suite 550, Rockville, MD 20852. Receipt of applications will not be acknowledged.

A copy of the legislation governing this program and additional information that could be helpful will be included as part of the application kit. Applicants should use the legislation and other information included in this announcement to guide them in developing their applications.

Program Requirements/Application Content

This notice seeks applications for the development, implementation and evaluation of a broad-based training program at RBH in Kabul, Afghanistan. Successful applications will focus on the development, implementation, and evaluation of a training program and curriculum for hospital-based healthcare professionals and ancillary staff in a resource-poor developing country. Successful applications will include a detailed plan for a comprehensive evaluation of the various conditions and elements required to implement an OB/GYN residency training program in Afghanistan. In addition, the application will include in-country logistical support for all project personnel such as faculty and trainers. Further, the successful applicants will document their proven experience and success in previous, similar projects located in developing countries.

The application will include the following elements:

1. Refresher Training and Continuing Education Program

Comprehensive topic areas for curriculum development will be identified in cooperation with HHS and the Afghanistan MOH but minimally will include physician, current resident, midwife and nurse refresher training and continuing education to update knowledge and skills and medical English classes for the professional staff. As a second priority, other allied health care workers such as laboratorians and pharmacy technicians, hospital administrators including facility and personnel managers, should also benefit from training. Curricula will be subject to review and approval by HHS and the Afghanistan MOH.

At the request of the MOH or other recognized partners, participants associated with other training programs in Afghanistan may also be included as space and resources permit in the RBH continuing education programs. Additionally, the award recipient and the team assembled by the award recipient will be expected to collaborate with HHS staff (in Kabul and the United States) involved in the design, implementation, and maintenance of quality assurance and surveillance activities such as the introduction and implementation of a record-keeping and informatics system at RBH. Any collaboration will be in keeping with overall intent of this cooperative agreement.

Team Composition: Award recipient will recruit and manage a team of medically trained professionals responsible for implementation of the curriculum as described above.

The award recipient should provide six Western-trained health-care professionals to work at RBH throughout the year. The award recipient will be responsible for recruiting and hiring the team members. The team should ideally consist of six team members at all times, except during brief transitional periods. At a minimum, and only during periods of transition, at least one medical doctor, with other appropriate team members, will be in country continuously. The team members should serve at least three months during a single tour in country to become acquainted with the hospital and staff and provide continuity. The team members will be licensed to practice and board-certified (if applicable for the profession) in their field of specialty in their country of primary residence.

The team should consist of at least two (2) OB/GYNs, one (1) certified nurse midwife (CNM), one (1) pediatrician or pediatric nurse practitioner, and one (1) hospital administrator. The remaining professional can be of a category appropriate to specific training needs. Consistent with the purposes of this cooperative agreement, qualified persons who speak Pashtun and Dari and are familiar with Afghan culture should be given due consideration as the medically-trained team is assembled. Composition of the team and qualifications of team members are subject to approval by OGHA/HHS. The team described above should be supplemented, as needed, with qualified persons to create a team capable of providing the didactic and clinical teaching of the curriculum described in Section 1 (Curriculum Development). Team members will provide critical hands-on training to hospital staff, including attending and resident physicians; nurses; midwives; pharmacists, laboratory technicians, administrative staff, maintenance staff, and others.

2. Logistical Support

Given the security considerations of the Afghan environment, to successfully carry out the objectives of this cooperative agreement, certain logistical needs of project staff will need to be supported by the grantee. These include the following:

a. One-to-three-day orientation of Western-trained team members to the Afghanistan project in a mutually agreeable location, on a periodic basis as needed, in collaboration with staff at HHS. This will include developing agendas, acquiring venue, preparation of materials, and travel and hotel accommodations for the participants.

b. All aspects of international travel to and from Afghanistan, including passport and visa assistance, travel per diem, hotel accommodations in transit, insurance, etc.

c. A secure (guarded), walled, furnished housing compound with indoor plumbing and provision for electrical services provided by generator, with sufficient lodging and beds for team members (no more than two individuals per room), and accommodations for female as well as male team members;

d. A backup water filtration system that is operational 24 hours a day/seven days a week;

e. Provision of incidentals, including but not necessarily limited to currency assistance, assistance with local government regulations, such as work permits, visa extensions and United Nations/commercial transportation services.

f. Provision of dedicated, dependable, safe transportation, with operating seat belts, maintenance, repair and operating considerations. This must include at least one vehicle comparable to a four-wheel drive Sports Utility Vehicle. At least one English-speaking driver must be on-call 24 hours per day.

g. Provision of a secure environment 24 hours per day per applicable and commonly accepted international standards for Afghanistan, including provision of VHF handheld radios and reliable second check system that ensures all team members are accounted for at least twice a day;

h. Provision of language assistance and translator/interpreter services during normal business hours and on call 24 hours a day;

i. Provision of airport facilitator services in Kabul to meet project staff/consultants and assist with customs clearance for personal effects and program commodities;

j. Provision of commodity procurement services to include commodity pricing, procurement, receipt, transport, storage, inventory and accountability. The volume and frequency of procurement requests will be intermittent over the course of the project. Funds for commodity procurement will be provided by respective sources such as HHS (OS/OGHA, Indian Health Service, HRSA, Centers for Disease Control and Prevention), the Department of Veterans Affairs, and others as needed. The nature of the commodities may include, but are not limited to, the following: desktop and laptop computers, printers, copy and fax machines, two-way radios, personnel protection devices, medical equipment, text books, educational and other printed materials, and training materials. At the request of the respective commodity funding source, arrange for the transfer of property from the U.S. Government-based funding source to other non-U.S. Government partners such as the MOH, an NGO or a private voluntary organization (PVO);

k. Provision of office support: Office space, desk and access to related office-support equipment, telephone, photo-copier, fax, desktop computer and software such as MS Office Pro, internet access, email account, domestic and international postage/mail/express courier service.

3. Residency Training Program

3.1 Feasibility Assessment of OB/GYN Residency Training Program. A long-term goal of this HHS-MOH collaboration is to develop an OB/GYN residency training program that is an adaptation of the American OB/GYN residency model. Working with HHS and other partners, award recipient will conduct a comprehensive evaluation of all the various components that would be required to implement an OB/GYN residency training program in Afghanistan. Award recipient will provide the final feasibility assessment to HHS within four months of award notification and delivery. At a minimum, the evaluation will consist of the following elements:

a. Assessment of RBH and other potential residency training institutions in Kabul (to be identified by HHS at a later date): Award recipient will evaluate the institutional capacity and ability of RBH and other selected hospitals to support an OB/GYN residency training program based on the Accreditation Council for Graduate Medical Education (ACGME) guidelines. Award recipient will evaluate the current systems of hospital management, personnel management, performance evaluation, and overall day-to-day operations of the hospitals. Award recipient will evaluate the current knowledge, skills, and abilities of the attending OB/GYN physicians and OB/GYN residents and make specific recommendations regarding their role, or propose an alternative source of qualified faculty for an OB/GYN residency training program based on ACGME guidelines.

b. Assessment of the medical curriculum that HHS provided to the Afghanistan MOH: A draft curriculum of the medical education required for an OB/GYN residency training program, based on the ACGME guidelines and existing medical education in Afghanistan was developed by HHS and its partners. The draft curriculum is currently under review by the Afghanistan MOH. The award recipient will work closely with HHS and the MOH to assess the feasibility of implementing an OB/GYN residency training program based on this medical curriculum provided to the Afghanistan MOH. The award recipient will also be responsible for negotiating a final version of the medical curriculum with the Afghan MOH, the Afghan Ministry of Higher Education (MOHE), and HHS.

c. Assessment of Afghan MOH and Afghan MOHE: Award recipient will evaluate the institutional capacity of the Afghan MOH and the Afghan MOHE to support an OB/GYN residency training program based on ACGME guidelines, and will provide specific recommendations to address any substantial perceived deficiencies.

d. Assessment of current OB/GYN residency training programs in RBH and at least one other hospital in Kabul HHS will identify: The award recipient will perform an evaluation of the current OB/GYN residency training programs in Afghanistan. The award recipient will evaluate the current recruitment and performance evaluation systems used for OB/GYN residents. The award recipient will document the current OB/GYN residency training requirements and guidelines specified by the Afghan MOH and the Afghan MOHE, and will provide specific recommendations regarding the required changes to these training requirements, if any, that would be needed to successfully implement an OB/GYN residency training program in Afghanistan.

e. Assessment of current training received at medical schools in Afghanistan: The award recipient will document the current medical school curriculum and training requirements mandated by the MOHE for medical school graduates. The award recipient will perform a baseline assessment of the knowledge, skills, and abilities of first year residents, and if warranted provide specific recommendations to address gaps in the basic sciences and the general medical competencies required to succeed in an OB/GYN program based on ACGME guidelines.

3.2 Development of the Residency Training Program: Capability Statement. While this announcement and the first year of funding do not provide for the longer-term development of the proposed residency training program in Kabul,HHS welcomes expression of potential interest by applicants, including description of the proposed team, approach, and budget to undertake this additional major activity, should additional funds become available to incrementally supplement this award in future years. Applications will be evaluated principally in relation to Program Requirements 1, 2 and 3.1, but those with a strong capability statement for the residency training program will receive additional favorable consideration.

Program Evaluation

All applications are required to have an evaluation plan, consistent with the scope of the proposed project and funding level that conforms to the project's stated goals and objectives. The evaluation plan should include both a process evaluation to track the implementation of project activities and an outcome evaluation to measure changes in patient health outcomes and the knowledge and skills of staff that can be attributed to the project. Project funds may support evaluation activities.

In addition to conducting their own evaluations, successful applicants must be prepared to participate in external evaluations supported by HHS and the Afghanistan MOH and conducted by partner HHS agencies and/or NGOs.

In addition to routine communications with HHS, within 30 days following the end of each quarter, award recipient will submit a written quarterly performance report no more than ten pages in length to OGHA/HHS. At a minimum, monthly performance reports will include the following:

• Concise summary of the most significant achievements and problems encountered during the reporting period, e.g. number, names, and types of training courses held and number of RBH hospital staff in attendance.

• A comparison of work progress with objectives established for the quarter using the award recipient's implementation schedule, and where such objectives were not met a statement of why they were not met, and a summary of corrective actions to be taken.

• Specific action(s) that the award recipient would like OGHA/HHS and the Afghanistan MOH to undertake to alleviate obstacles to progress.

• Other pertinent information that will permit overview and evaluation of project operations.

• Status of commodities ordered, received, and stored/used.

Within 90 days following the end of the project period a final report containing information and data of interest to the HHS or other partners must be submitted to OGHA/HHS. The specifics as to the format and content of the final report and the summary will be sent to successful applicants. At minimum, the report should contain the following:

• A summary of the major activities supported under the cooperative agreement and the major accomplishments resulting from the training of physicians and other staff at RBH.

• An analysis of the project, based on the challenges described in background section of the RFA performed prior to or during the project period, including a description of the specific objectives stated in the cooperative agreement application and the accomplishments and failures resulting from activities during the cooperative agreement period.

Quarterly performance reports and the final report should be submitted to: Amar Bhat, Ph.D, Parklawn Building, Room 18C-17, 5600 Fishers Lane, Rockville, Maryland 20857, Telephone Number: (301) 443-1410, Fax Number: (301) 443-1397, Email: abhat@osophs.dhhs.gov.

V. Application Review Information

Applications will be screened for completeness and for responsiveness to the program guidance. Applicants should pay strict attention to addressing these instructions, as they are the basis upon which their applications will be judged. Those applications judged to be non-responsive or incomplete will be returned to the applicant without review.

An appropriate peer review group specifically convened for this solicitation and in accordance with HHS management policies and procedures for cooperative agreements will evaluate for scientific and technical merit applications that are complete and responsive to the instructions. As part of the initial merit review, all applications will receive a written critique. All applications eligible for consideration will be discussed fully by the ad hoc peer review group and assigned a priority score for funding. Eligible cooperative agreement applications will be assessed according the following criteria:

(1) Technical Approach (40 points):

• The applicant's presentation of a sound and practical technical approach for executing the requirements specified in the Program Requirements section of this announcement, with adequate explanation, substantiation and justification for methods for handling the projected needs of the cooperative agreement.

• The successful applicant must demonstrate a clear understanding of the scope of work and objectives of the cooperative agreement, recognition of challenges that may arise in performing the work required, and understanding of the close coordination necessary between the OGHA/HHS, Afghanistan MOH, the U.S. Agency for International Development, and other organizations.

• Applicants must submit a strategic plan that outlines the initial (proposed) schedule of activities and expected products of the work with benchmarks at months four, six, 12, 18, 24, and 36. The strategic plan should specifically address the development of the curriculum and implementation of the training program for each category of hospital personnel; the proposed logistical support; and the activities related to initial assessment toward and (optional) longer-term development of the residency training program.

(2) Personnel Qualifications and Experience (30 points):

• Project Leadership—For the technical and administrative leadership of cooperative agreement, successful applicants must document expertise, relevant experiences, leadership/management skills, availability of a qualified project manager, and organizational (including cross-organizational) management structure able to successfully plan, implement, and evaluate the project. Such documentation should include examples of previous relevant experience in training health care professionals in developing countries in maternal and child health programs; examples of successful management of broad scope training programs in hospital settings in resource poor environments; examples of successful assessment of and, optionally, full responsibility for development of specialty physician (residency) training particularly in resource-poor settings; and examples of successful collaborations with other partner organizations, subcontractors, and/or consultant efforts in similar endeavors. Additionally, documentation of previous experience in training ancillary hospital staff in developing countries is expected.

• Partner Institutions and other Personnel—Applicants should provide documented evidence of availability, training, qualifications, expertise, relevant experience, salary history, and education and competence of the scientific, clinical, analytical, technical and administrative staff and any other proposed personnel (including partner institutions, subcontractors and consultants), to perform the requirements of the work activities as evidenced by resumes, endorsements and explanations of previous efforts. It is anticipated that the successful applicant will represent a consortium of well-suited parties for the various major activities of the cooperative agreement program.

• Staffing Plan—Applicants should submit a detailed staffing plan for the conduct of the project, including the appropriateness of the time commitment of all staff and partner institutions, the clarity and appropriateness of assigned roles, and specific lines of authority. Applicants should also provide an organizational chart for each partner institution named in the application showing relationships among the key personnel. If applicants develop legally binding relationships with partner institutions for the purpose of this cooperative agreement, copies of these agreements should be submitted with the application.

• Administrative and Organizational Framework—Adequacy of the administrative and organizational framework, with lines of authority and responsibility clearly demonstrated among the applicant's internal partners and with HHS and the MOH, and adequacy of the project plan, with proposed time schedule for achieving objectives and maintaining quality control over the implementation and operation of the project. Adequacy of back-up staffing and the evidence that they will be able to function as a team. The framework should identify the institution that will assume legal and financial responsibility and accountability for the use and disposition of funds awarded on the basis of this RFA.

(3) Past Experience and Capabilities of the Organization (15 points):

• Applicants should submit documented relevant experience of the organization in managing projects of similar complexity and scope of the activities.

• Adequacy, feasibility, and past experience in successfully coordinating multiple partner collaboration. Clarity and appropriateness of lines of communication and authority for coordination and management of the project.

• Documented experience recruiting qualified medical personnel for projects of similar complexity and scope of activities.

• Documented capability and past history of funds management meeting the highest acceptable standards of accounting.

(4) Facilities and Resources (15 points):

Documented availability and adequacy of facilities, equipment and resources necessary to carry out the activities specified under Program Requirements, including logistical support facilities and resources.

VI.1 Award Administration Information

HHS does not release information about individual applications during the review process until final funding decisions have been made. When these decisions have been made, applicants will by letter regarding the outcome of their applications. The official document notifying an applicant that an application has been approved and funded is the Notice of Grant Award, which specifies to the award recipient the amount of money awarded, the purpose of the cooperative agreement, the terms and conditions of the cooperative agreement award, and the amount of funding, if any, to be contributed by the award recipient to the project costs.

VI.2. Administration and National Policy Requirements

In accepting this award, the grantee stipulates that the award and any activities hereunder are subject to all provisions of 45 CFR parts 74 and 92, currently in effect or implemented during the period of the grant. Within 60 days of receiving the Notice of Grant Award, a finalized work plan for year one of the project will be negotiated with the OFP Project Officer. In the succeeding years, the training plan and other training events will be a part of the continuation application. The OFP will identify training priorities for the coming year to the male training program within 60 days of the due date for the continuation application.

The Buy American Act of 1933, as amended (41 U.S.C. 10a-10d), requires that Government agencies give priority to domestic products when making purchasing decisions. Therefore, to the greatest extent practicable, all equipment and products purchased with grant funds should be American-made.

A Notice providing information and guidance regarding the “Government-wide Implementation of the President's Welfare-to-Work Initiative for Federal Grant Programs” was published in the Federal Register on May 16, 1997. This initiative was designated to facilitate and encourage grantees and their sub-recipients to hire welfare recipients and to provide additional needed training and/or mentoring as needed. The text of the Notice is available electronically on the OMB home page at http://www.whitehouse.gov/omb.

The HHS Appropriations Act requires that when issuing statements, press releases, requests for proposals, bid solicitations, and other documents describing projects or programs funded in whole or in part with Federal money, grantees shall clearly state the percentage and dollar amount of the total costs of the program or project which will be financed with Federal money and the percentage and dollar amount of the total costs of the project or program that will be financed by non-governmental sources.

VI.3 Reporting

A successful applicant under this notice will submit: (a) Annual progress reports; (b) annual Financial Status Reports; and (c) a final progress report and Financial Status Report. Reporting formats are established in accordance with provisions of the general regulations which apply under 45 CFR parts 74 and 92. Applicants must submit all required reports in a timely manner, in recommended formats (to be provided) and submit a final report on the project, including any information on evaluation results, at the completion of the project period. Agencies receiving $500,000 or more in total Federal funds are required to undergo an annual audit as described in OMB Circular A-133, “Audits of States, Local Governments, and Non-Profit Organizations.”

VII. Agency Contacts

For assistance on administrative and budgetary requirements, Eric West, HHS Office of Public Health and Science (OPHS) Grants Management Office, (301) 594-0758.

For assistance with questions regarding program requirements, Dr. Amar Bhat, HHS Office of Global Health Affairs, (301) 443-1410.

Dated: August 20, 2004.
Arthur J. Lawrence,
Assistant Surgeon General, Acting Principal Deputy Assistant Secretary for Health, Office of Public Health and Science.

[FR Doc. 04-19462 Filed 8-24-04; 8:45 am]

BILLING CODE 4150-28-U